DEPARTMENT OF HEALTH AND HUMAN SERVICES

Centers for Disease Control and Prevention

[60Day-02-54]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Data Collection and Analysis to Determine the Reliability and Validity of Current and Proposed Oral Health Questions, Behavioral Risk Factor Surveillance System—New—National Center for Chronic Disease Prevention and Health Promotion (NCCDPHP), Centers for Disease Control and Prevention (CDC).

The National Center for Chronic Disease Prevention and Health Promotion, Division of Oral Health, proposes to support data collection and analysis to determine the reliability and validity of current and proposed Oral Health questions for the Behavioral Risk Factor Surveillance System (BRFSS). At the request of the Association of State and Territorial Dental Directors (ASTDD), the Division of Oral Health (DOH) provided technical assistance in standardization of questions to monitor the oral health of adults. Three questions appeared on the BRFSS core in 1999, and were included again in 2002; They permit state dental programs to track progress toward Healthy People (HP) objectives for adults (HP 2010: 21-3, 21-4, 21-10), to monitor reported use of a key preventive service for adults (teeth cleaning), and to examine the relationship of oral health indicators to general health status, conditions, and behaviors.

As more state dental programs consider the oral health of adults, states have requested that a bank of additional standardized questions be created to monitor other oral health indicators. CDC/DOH has been reluctant to provide additional technical assistance, without firm data on the reliability and validity of questions. Because all BRFSS questions require self-report by respondents about their own oral health status or behaviors, recall bias and errors in perception exist. To accomplish estimates of response error, answers to existing and proposed BRFSS questions (limit = 10 content questions, plus 7 demographic questions) must be compared to the “True” situation of that individual, i.e., that is found in patient charts or other clinical records.

The proposed data collection and analysis will be conducted through the Alliance of Community Health Plans by research foundations affiliated with two dental plans, Kaiser Permanente Northwest, Portland, OR and Health Partners, Minneapolis, MN. The proposed telephone survey, similar to BRFSS, of a convenience sample of 400 dental plan members (200 from each respective HMO) would occur only once. Neither published studies nor informal discussions with dental researchers regarding work in progress uncovered any information that would eliminate the need for this data collection. All work on this project, including linkages between health plan records and responses to the BRFSS questions, will be conducted at the research foundations associated with the respective health plans. CDC will receive only a report on the validity of the questions, and will not have access to the database constructed for the contract.

Study findings will allow CDC to respond to state requests for inclusion of additional standardized questions in an optional oral health module for BRFSS and ensure that any such questions are reliable, valid, and useful for state program planning and evaluation. There is no cost to respondents.

Health plan respondents | Number of respondents | Number of responses/respondent | Average burden/response (in hours) | Total burden (in hours)
Kaiser Northwest | 200 | 1 | 15/60 | 50
Health Partners | 200 | 1 | 15/60 | 50
Total |  |  |  | 100

Dated: May 10, 2002.
Nancy E. Cheal,
Acting Associate Director for Policy, Planning and Evaluation, Centers for Disease Control and Prevention.

[FR Doc. 02-12515 Filed 5-17-02; 8:45 am]

BILLING CODE 4163-18-P